DEPARTMENT OF HEALTH AND HUMAN SERVICES

Centers for Disease Control and Prevention

Announcement of Requirements and Registration for the “Enviro Health App Challenge” and Challenge Kick-Off Webinar

AGENCY: Centers for Disease Control and Prevention (CDC), Department of Health and Human Services (HHS).

ACTION: Notice.

SUMMARY: The Centers for Disease Control and Prevention (CDC) located within the Department of Health and Human Services (HHS) announces the launch of the Enviro Health App Challenge and Challenge Kick-off Webinar. The CDC's Environmental Public Health Tracking Network (Tracking Network: ephtracking.cdc.gov/showHome.action) serves as the focus of this Challenge. The Tracking Network is a multi-tiered, Web-based surveillance system with components at CDC, as well as within 25 states and New York City. The data, information, and tools provided are readily accessible to help users identify or investigate environmental health problems; and plan and evaluate programs and policies to address those problems.

With the Enviro Health App Challenge (the Challenge) we are seeking innovative uses for the Tracking Network data that explore the connections between the environment and health.

The Challenge consists of a 12-week idea submission period. Participants will compete for prizes within a $30,000 prize pot.

Award Approving Official: Anne Schuchat, MD (RADM, USPHS), Acting Director, Centers for Disease Control and Prevention, and Acting Administrator, Agency for Toxic Substances and Disease Registry.

DATES: The Challenge is effective April 13, 2017 and will conclude July 19, 2017.

The Challenge Kick-off Webinar is scheduled for April 19, 2017 at 2:00 p.m. Eastern Daylight Time. Please see SUPPLEMENTARY INFORMATION for information on how to register for the Kick-off Webinar.

FOR FURTHER INFORMATION CONTACT: Patrick Wall, National Center for Environmental Health, Centers for Disease Control and Prevention, 4770 Buford Highway NE., MS F-60, Chamblee, Georgia 30341; Email: trackingsupport@cdc.gov; Phone: 1-877-923-TRAC (8722).

SUPPLEMENTARY INFORMATION: Environmental causes of chronic diseases are challenging to identify. Measuring amounts of hazardous substances in our environment in a standardized way, understanding how these hazardous substances change over time and geographic area, and understanding how they may cause illness is critical.

Since 2002, CDC and its local, state, and federal partners have been working to better integrate health and environmental data in order to provide a foundation for improved coordination, assessment and control of health conditions that may be related to the environment through the National Environmental Public Health Tracking (Tracking) Program. The cornerstone of this program, the Tracking Network, is an environmental public health surveillance system providing access to over 400 environmental and health measures for communities across the nation. The Tracking Network is a tool that can help connect these efforts. We want to increase public awareness that the Tracking Network data may help people understand the connections between environmental hazards and chronic illness.

The Challenge timeline is:

Challenge Launch—April 13, 2017

Ideation Period Opens—April 13, 2017

Challenge Kickoff Webinar—April 19, 2017

Ideation Period Closes—June 23, 2017

Evaluation Period: June 27, 2017-July 19, 2017

Notify Semifinalists: July 20, 2017

Semifinalist Resubmission Period: July 31, 2017-August 11, 2017

Final Evaluation Period: August 15, 2017-August 29, 2017

Winners Announcement—By September 1, 2017

Subject of Challenge Competition

Through this Challenge, we want to seed innovative uses for Tracking Network data that explore the connections between the environment and health. The solution should be technology-based, interactive and help facilitate simple and meaningful information to general public audiences. The application must show the potential for what can be done with tracking data, such as:

• Track data indicators

• Monitor trends

• Provide access to data

• Educate the public

• Identify at-risk populations

• Expose potential health hazards

Ideation Period

The Challenge will launch as a 10-week ideation/open submission period in which eligible participants (outlined in Eligibility Rules) may register and submit an entry onto the Challenge Web site (envirohealthchallenge.com). Information about the Challenge and a link to the Challenge Web site can also be found at Challenge.gov. The 10-week ideation period will be followed by a 2-week resubmission period held for those who were chosen by the judges as semifinalists to further refine their idea. The Challenge Web site serves as the destination and submission portal. Participants may find the Challenge rules, eligibility criteria, evaluation criteria, additional Tracking Network resources, and the Challenge timeline on the Challenge Web site or at Challenge.gov.

Kick-Off Webinar

Individuals interested in this Challenge are invited to participate in the Kick-off Webinar on April 19, 2017 at 2:00 p.m. Eastern Daylight Time. Individuals must pre-register for the webinar at:

URL: https://attendee.gotowebinar.com/register/8850636876557739779. After completing the registration, participants will receive a confirmation of their registration along with an identification number to enter prior to the webinar. Persons interested in participating in this Challenge are strongly encouraged to register for and participate in the webinar.

Screening & Review Process

CDC has contracted with Sensis, a company with expertise in developing and managing prize challenges, to manage this Challenge. Once the open submission period has closed, Sensis will review all submissions using the following process: (1) Ensure compliance with the submission requirements (Submission Requirements); and (2) determine eligibility compliance (according to Eligibility Criteria). Entries meeting these requirements will be forwarded to the panel of Challenge judges who will score eligible entries in accordance to the Challenge evaluation criteria. The Challenge judges were selected based on their technical expertise, experience in the field of environmental health tracking, and absence of conflict of interest. Selected judges consist of experts from private industry, the Federal government, and local government.

Final Evaluation & Award

Entries with the highest scores will be selected as semifinalists and will be asked to demonstrate their technology in a live webinar for the judging panel. Following the semifinalist demonstration, participants will enter their final submission through the Challenge submission portal. Judges will evaluate this final submission to provide the ultimate score using the Challenge evaluation criteria (outlined in Section 6.0 Evaluation Criteria). Only entries with the highest scores will be considered finalists for the award. Winners are selected based on the top score earned by their submissions. In case of a tie in scoring, a CDC official on the Challenge team will select the submission that best represents the initial vison of the Challenge. Three (3) winners will be selected and awards will be issued directly by Sensis, who will issue pay out of awards as a requirement of their contract terms.

Submission Requirements

During the open submission period, participants must submit the following information to enter the Challenge. Entries not in compliance with the submission requirements outlined below will be ineligible for further review and prize award. In addition to providing the app or link to the app, contestants should:

• Upload a brief slide presentation that describes the entry. Slide decks should be in .PDF format, and contain a maximum of 10 slides. We strongly recommend you explain how you addressed the evaluation criteria and the key features of the product as they relate to the Challenge.

○ Provide the title of the solution/technology.

○ Provide a background description of the technology.

○ Identify the user and target audience.

○ One of the slides in the presentation should be a narrative explaining how the app is intended to work.

○ State how the technology integrates data from CDC's Environmental Public Health Tracking Network API as well as other data sources where applicable.

○ Provide general information about the applicant and team members. This may include skills, professional affiliations and achievements.

• Provide a public or private link to a 2-4 minute demonstration video showing the application in action. Videos should be posted to common video-sharing sites such as YouTube.

• If the Application is awarded and the applicant would like their application to be showcased on the CDC Web site, it must be Section 508-compliant. For information on Section 508-compliance, and tools for implementation, visit: www.section508.gov.

• All Submissions and supporting material must be in English.

• Neither the HHS nor CDC name nor logos will be used in the app or the icon for the app.

• Submit by the deadline using the online platform.

• (Optional) Development plan and timeline that describes key activities and resources required to further develop the technology. Include any resources, including team capabilities, materials, processes, or others needed to further develop the technology.

How To Participate

Participants can register by visiting the Challenge Web site (envirohealthchallenge.com) anytime during the proposal submission period stated above. Information about the Challenge and a link to the Challenge Web site can also be found on http://www.Challenge.gov.

Eligibility Rules for Participating in the Competition

During the proposal submission period, Sensis will initially screen submissions for eligibility and compliance with the rules of this challenge. A submission that fails to meet the eligibility and compliance criteria will be disqualified and will be ineligible for prizes. CDC will notify disqualified contestants via email within five business days. To be eligible to win a prize under this challenge, an individual or entity—

(1) Shall have registered to participate in the competition under the rules promulgated by the Centers for Disease Control and Prevention;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

(5) Shall not be an HHS employee working on their applications or submissions during assigned duty hours.

(6) Are an individual or team comprised of members each of who are 18 years of age or over.

(7) Are not on the Excluded Parties List System located at www.sam.gov.

Additionally

(a) Federal grantees may not use Federal funds to develop challenge applications unless consistent with the purpose of their grant award. Federal contractors may not use Federal funds from a contract to develop challenge applications or to fund efforts in support of a challenge submission.

(b) Employees of CDC, and/or any other individual or entity associated with the development, evaluation, or administration of the Challenge as well as members of such persons' immediate families (spouses, children, siblings, parents), and persons living in the same household as such persons, whether or not related, are not eligible to participate in the Challenge.

(c) An individual or entity shall not be deemed ineligible because the individual or entity used Federal facilities or consulted with Federal employees during a competition if the facilities and employees are made available to all individuals and entities participating in the competition on an equitable basis.

(d) Applicants must agree to assume any and all risks and waive claims against the Federal Government and its related entities, except in the case of willful misconduct, for any injury, death, damage, or loss of property, revenue, or profits, whether direct, indirect, or consequential, arising from their participation in a competition, whether the injury, death, damage, or loss arises through negligence or otherwise.

(e) A solution may be disqualified if it fails to function as expressed in the description provided by the user, or if it provides inaccurate or incomplete information.

(f) CDC reserves the right to disqualify participants from the Challenge for inappropriate, derogatory, defamatory, or threatening comments or communication through the Challenge Web site or on the Challenge.gov Web site, CDC EPH Tracking Facebook page or CDC EPH Tracking Twitter page.

(g) Submissions must be free of security threats and/or malware. Applicants/Contestants agree that CDC may conduct testing on the product/submission to determine whether malware or other security threats may be present. CDC may disqualify the product if, in CDC's judgment, the app may damage government or others' equipment or operating environment.

(h) Applicants must obtain liability insurance or demonstrate financial responsibility in the amount of $0 for claims by: (1) A third party for death, bodily injury, or property damage, or loss resulting from an activity carried out in connection with participation in a competition, with the Federal Government named as an additional insured under the registered applicant's insurance policy and registered applicant's agreeing to indemnify the Federal Government against third party claims for damages arising from or related to competition activities; and (2) the Federal Government for damage or loss to Government property resulting from such an activity. Applicants who are a group must obtain insurance or demonstrate financial responsibility for all members of the group.

(i) By participating in the Challenge, each Applicant agrees to comply with and abide by these Official Rules, Terms & Conditions and the decisions of the Federal Agency sponsors and/or the individual judges, which shall be final and binding in all respects.

Registration Process for Participants

To register for this Challenge, participants can access http://envirohealthchallenge.com/ or http://www.Challenge.gov anytime during the proposal submission period stated above to register.

Amount of the Prize

CDC plans to award prizes for first, second and third place up to the following amounts, for a total of $30,000.

One First Place winner of $20,000

One Second Place winner of $7,000

One Third Place winner of $3,000

Three (3) winners will be selected and notified via email. Awards will be issued directly by Sensis. Please note: Winners are responsible for the payment of any Federal income taxes which may apply to the awarded prize funds.

Basis Upon Which Winner Will Be Selected

The Challenge judging panel will evaluate eligible challenge entries and will make semifinalist and winner selections based upon the criteria outlined below, and in compliance with the HHS Competition Judging Guidelines.

Impact: 20%

1. The technology solves a problem or addresses an important issue for consumers/users.

2. The technology has a clearly identified user and target audience.

Innovation: 30%

1. The technology is original, uses data in an unprecedented and novel way, and/or pushes beyond an imitation of existing solutions.

2. The technology integrates environmental and health data in a unique way.

Design: 20%

1. The technology is based on a user-centered design, showing evidence of considering user feedback on design decisions.

2. The user interface is visually appealing, well laid out, intuitive, and easy to use and understand.

Technical Merit: 30%

1. The technology is functional (tested through personal use or video demonstration).

2. The technology integrates at least one open data source (CDC's Environmental Public Health Tracking Network API).

Additional Information

Intellectual Property

• Applicants are free to discuss their submission and the ideas or technologies that it contains with other parties; encouraged to share ideas/technologies publicly; encouraged to collaborate or combine with other teams to strengthen their solutions; and are free to contract with any third parties. Applicants should be aware that any agreement signed or obligation undertaken in regards to their participation in this Challenge that conflict with the Challenge rules, terms and conditions may result in disqualification of the Applicant's submission.

• Upon submission, each Applicant warrants that he or she is the sole author and owner of the work and any pertinent Intellectual Property (IP) rights, that the work is wholly original of the Applicant (or is an improved version of an existing work that the Applicant has sufficient rights to use—including the substantial improvement of existing open-source work), and that it does not infringe any copyright or any other rights of any third party of which Applicant is aware. Each Applicant also warrants that the work is free of security threats and/or malware.

• Applicants retain ownership of the data that they develop and deliver under the scope of the Challenge, including any software, research or other intellectual property (“IP”) that they develop in connection therewith. Applicants agree to grant a license to the Federal Agency sponsor (CDC) for the use of the IP developed in connection with the Challenge as set forth herein.

• Each Applicant must clearly delineate any Intellectual Property (IP) and/or confidential commercial information contained in a submission that is owned by the Applicant, and which the Applicant wishes to protect as proprietary data.

• Upon completion of the Challenge period, applicants consents to grant CDC an unlimited, non-exclusive, royalty-free, worldwide license and right to reproduce, publically perform, publically display, and use the Submission and to publically perform and publically display the Submission, including, without limitation, for promotional purposes relating to the Challenge.

• All materials submitted to CDC as part of a submission become CDC agency records. Any confidential commercial or financial information contained in a submission must be clearly designated at the time of submission.

• If the Submission includes any third party works (such as third party content or open source code), Applicant must be able to provide, upon request, documentation of all appropriate licenses and releases for use of such third party works. If Applicant cannot provide documentation of all required licenses and releases, Federal Agency sponsors reserve the right, at their sole discretion, to disqualify the applicable Submission. Conversely, they may seek to secure the licenses and releases and allow the applicable Submission to remain in the Challenge, while reserving all applicable Federal agency rights with respect to such licenses and releases.

• FOIA: Submitters will be notified of any Freedom of Information Act (FOIA) requests for their materials which have been clearly designated as confidential commercial or financial information or trade secret in accordance with 45 CFR 5.65.

Privacy

If Contestants choose to provide CDC with personal information by registering or filling out the submission form through the http://envirohealthchallenge.com Web site, that information is used to respond to Contestants in matters regarding their submission, announcements of entrants, finalists, and winners of the Contest. Information is not collected for commercial marketing. Winners are permitted to cite that they won this contest.

General Conditions

CDC reserves the right to cancel, suspend, and/or modify the Contest, or any part of it, for any reason, at CDC's sole discretion. If the Challenge is cancelled, suspended, or modified, CDC will inform the public through the publication of a notice in the Federal Register and a posting on the Challenge Web site.

Participation in this Contest constitutes a contestants' full and unconditional agreement to abide by the Contest's terms and conditions found at www.envirohealthchallenge.com or www.Challenge.gov.

Authority: 15 U.S.C. 3719.

Dated: April 3, 2017.
Sandra Cashman,
Executive Secretary, Centers for Disease Control and Prevention.

[FR Doc. 2017-06974 Filed 4-6-17; 8:45 am]

BILLING CODE 4163-18-P